DEPARTMENT OF AGRICULTURE

Submission for OMB Review; Comment Request

November 14, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Emergency Conservation Program.

OMB Control Number: 0560-0082.

Summary of Collection: The Farm Service Agency (FSA), in cooperation with the Natural Resources Conservation Service, the Forest Service, and other agencies and organizations, provides eligible producers and landowners cost-share incentives and technical assistance through several conservation and environmental programs to help farmers, ranchers, and other eligible landowners and operators conserve soil, improve water quality, develop forests, and rehabilitate farmland severely damaged by natural disasters. The authorities to collect information for this collection are found under the Food Security Act of 1985, as amended, and the Agricultural Credit Act of 1978 (16 U.S.C. 2201-2205).

Need and Use of the Information: FSA will collect information using forms AD-245, Practice Approval and Payment Application, FSA-18, Applicant's Agreement to Complete an Uncompleted Practice and FSA-849, Emergency Conservation Program Hurricane Gulf of Mexico, Poultry. The collected information will be used to determine if the person, land, and practices are eligible for participation in the respective program and to receive cost-share assistance.

Description of Respondents: Farms.

Number of Respondents: 90,000.

Frequency of Responses: Reporting: Annually.

Total Burden Hours: 67,580.

Ruth Brown,
Departmental Information Collection Clearance Officer.

[FR Doc. E6-19453 Filed 11-16-06; 8:45 am]

BILLING CODE 3410-05-P